DEPARTMENT OF EDUCATION

34 CFR Chapter VI

Office of Postsecondary Education; Notice of Intent To Establish Negotiated Rulemaking Committees Under Title IV of the Higher Education Act of 1965, as Amended

AGENCY: Department of Education.

ACTION: Notice of negotiated rulemaking.

SUMMARY: The Secretary of Education (Secretary) announces the establishment of two negotiated rulemaking committees: one will develop proposed regulations related to accreditation topics and the other will develop proposed regulations related to other programmatic, institutional eligibility, and general provisions topics under Title IV of the Higher Education Act of 1965, as amended (HEA). In addition, the Secretary provides additional information on the negotiating committee that will address topics related to the Academic Competitiveness Grant (ACG) and the National Science and Mathematics Access to Retain Talent Grant (National SMART Grant) programs.

DATES: The dates for the negotiation sessions are listed in the SUPPLEMENTARY INFORMATION section of this notice.

FOR FURTHER INFORMATION CONTACT: Wendy Macias, U.S. Department of Education, 1990 K Street, NW., room 8017, Washington, DC 20006. Telephone: (202) 502-7526. E-mail: Wendy.Macias@ed.gov.

If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION: On August 18, 2006, we published a notice in the Federal Register (71 FR 47756) announcing our intent to establish up to four negotiated rulemaking committees to prepare regulations under Title IV of the HEA. The notice also announced a series of four regional hearings at which interested parties could suggest topics for consideration for action by the negotiating committees. We invited parties to submit topics for consideration in writing, as well. In the notice, we also requested nominations for individual negotiators who represent key stakeholder constituencies that are involved in the student financial assistance programs authorized under Title IV of the HEA to serve on these committees.

On November 29, 2006, the Secretary convened a forum on accreditation to discuss strategies for making higher education more accessible, affordable, and accountable and to explore ways to implement the recommendations of her Commission on the Future of Higher Education. One of the goals of the forum was to take the work that the higher education community has been doing to improve the focus on student learning outcomes and to discuss how to work together for a more robust, outcome-focused, results-centered accreditation system that will benefit students and parents and empower them with information. The forum also looked at ways to streamline and improve the accreditation process to support innovation, promote consistency in accreditation standards, increase accountability, and be more transparent to the public.

On December 8, 2006, we published a notice in the Federal Register (71 FR 71117) announcing the establishment of a negotiating committee to address topics related to the Federal student loan programs authorized by Title IV, Parts B, D, and E of the HEA. The notice included the topics that committee was likely to address, the members of that committee, and the schedule for that committee. That committee began meeting in December 2006.

In addition, the December 8, 2006 notice announced the establishment of a negotiating committee to address topics related to the ACG and the National SMART Grant programs. We list the members of the ACG and National SMART Grant committee, the topics that committee will likely address, and the schedule for that committee elsewhere in this notice under ACG and National SMART Grant Committee Topics, Members, and Meeting Schedule.

Finally, the December 8, 2006 notice extended the deadline to respond to our request for nominations for individual negotiators who represent key stakeholder constituencies to serve on the ACG and National SMART Grant programs committee and any additional negotiating committees that may be formed to address accreditation, or Title IV programmatic, institutional eligibility, and general provisions topics.

After further consideration of the information received at the regional hearings, at the accreditation forum, and in writing as a result of the notice, we have decided to establish two additional negotiating committees. One committee will address programmatic, institutional eligibility, and general provisions topics related to Title IV Parts A (except for ACG and National SMART Grant programs), C, G, and H (except subpart 2) of the HEA. The other new committee will address accreditation topics (Title IV, Part H of the HEA). We list the members of these committees, the topics the committees will likely address, and the schedule for these committees elsewhere in this notice under General Provisions Committee Topics, Members, and Meeting Schedule and Accreditation Committee Topics, Members, and Meeting Schedule.

ACG and National SMART Grant Committee Topics, Members, and Meeting Schedule

The topics the ACG and National SMART Grant Committee is likely to address are:

• Rigorous secondary school programs

• Mandatory institutional participation in ACG and National SMART Grants

• Eligibility of certificate programs for ACG

• Requirement that Pell Grants and ACG or National SMART Grants be disbursed at the same institution when awarded within the same term

• Grade point average

• Transfer students

• Coursework

• Timing of calculation

• Eligibility for disbursement

• Academic year progression

The members of the ACG and National SMART Grant Committee are:

Negotiator: Gabriel Pendas, United States Student Association.

Alternate: Justin McMartin, Minnesota State Colleges and Universities.

Negotiator: George Chin, City University of New York.

Alternate: Catherine Simoneaux, Loyola University.

Negotiator: Thomas Babel, DeVry, Incorporated.

Alternate: Mathew Hamill, National Association of College and University Business Officers.

Negotiator: Margaret Heisel, University of California.

Alternate: Katherine Haley Will, Gettysburg College.

Negotiator: Cecilia Cunningham, Middle College National Consortium.

Alternate: Janine Riggs, Arkansas Department of Education.

Negotiator: Lee Carrillo, Central New Mexico Community College.

Alternate: Pat Hurley, Glendale Community College.

Negotiator: June Streckfus, Maryland Business Roundtable for Education.

Alternate: Denise Hedrick, Educational Collaborative.

Negotiator: Stanley Jones, Indiana Commission for Higher Education.

Alternate: Jim Ballard, Michigan Association of Secondary School Principals.

Negotiator: Robert Scott, Texas Education Agency.

Alternate: Joan Wodiska, National Governors Association.

Negotiator: Mary Beth Kelly, Pennsylvania Higher Education Assistance Agency.

Negotiator: Linda France, Kentucky Department of Education.

Alternate: Wandra Polk, North Carolina Department of Instruction.

Negotiator: Joe McTighe, Council for American Private Education.

Alternate: William Estrada, Home School Legal Defense Association.

Negotiator: Elaine Copeland, Clinton Junior College.

Negotiator: Bill Lucia, Educational Testing Service.

Alternate: Nancy Segal, ACT.

We will hold a total of three sessions, all of which will be held in the metropolitan Washington, DC area. The following is the schedule for the sessions. This schedule is subject to change.

• Session 1: February 5-7

• Session 2: March 5-7

• Session 3: April 16-18

The February 5-7 negotiating session is scheduled from 9:30 to 5 p.m. on February 5; 9:30 a.m. to 5 p.m. on February 6; and 9 a.m. to 12 p.m. on February 7. The Committee will convene at the Department of Education, 8th Floor Conference Center, 1990 K Street, NW., Washington, DC 20006.

General Provisions Committee Topics, Members, and Meeting Schedule

The topics the General Provisions Committee is likely to address are:

• Consistent enrollment status definitions for all Title IV programs (full-time, half-time, etc.)

• Consistent definitions of undergraduate and graduate student for all Title IV programs

• Define independent study

• Nonstandard term and nonterm programs

• Use of completion of half the weeks of instructional time for timing of loan disbursements

• Determining loan eligibility for nonstandard term programs

• Require institutions to use consistent disbursement periods, where allowed under the law

• Cash management

• Recovery of funds not claimed by student or parent

• Student/parent permission for electronic disbursements

• Requirements for “issuing a check” by making it available for pickup

• Late, late disbursements

• Affirmative confirmation of a loan

• Simplify excess cash allowances

• Treatment of Federal Family Education Loan (FFEL) and Direct Loan funds when a student withdraws before beginning class—make consistent with other programs

• Eliminate the single disbursement requirement for Perkins and Federal Supplemental Education Opportunity Grants (FSEOG)

• Technical corrections

The members of the General Provisions Committee are:

Negotiator: Rebecca Thompson, United States Student Association.

Alternate: Justin Klander, Minnesota State College Student Association.

Negotiator: Elaine Neely-Eacona, Kaplan Higher Education Corporation.

Alternate: Susan Little, University of Georgia.

Negotiator: David Glezerman, Temple University.

Alternate: Anne Gross, National Association of College and University Business Officers.

Negotiator: Stephen Sussman, Barry University.

Negotiator: Linda Michalowski, California Community Colleges.

Alternate: Carol Mowbray, Northern Virginia Community College.

Negotiator: Kay Noah Stroud, Appalachian State University.

Alternate: Beverly Young, California State University.

Negotiator: Stacey Ludwig, Western Governors University.

Alternate: Paula Luff, DePaul University.

Negotiator: Steven Dill, Lincoln Educational Services, Inc.

Alternate: Robert Collins, Apollo Group, Inc.

Negotiator: Mary Ann Welch, National Association of State Student Grant and Aid Programs.

Alternate: Lee Woods, Chase Education Finance.

Negotiator: Starlith Chiquita Carter, National Accrediting Commission of Cosmetology Arts and Sciences.

We will hold a total of three sessions, all of which will be held in the metropolitan Washington, DC area. The following is the schedule for the sessions. This schedule is subject to change.

• Session 1: February 7-9

• Session 2: March 7-9

• Session 3: April 18-20

The February 7-9 negotiating session is scheduled from 1 to 5 p.m. on February 7; 9 a.m. to 5 p.m. on February 8; and, 9 a.m. to 4 p.m. on February 9. The Committee will convene at the Department of Education, 8th Floor Conference Center, 1990 K Street, NW., Washington, DC 20006.

Accreditation Committee Topics, Members, and Meeting Schedule

The topics the Accreditation Committee is likely to address are:

• Measures of student achievement

• Relationship of process standards to student achievement

• Consideration of mission in application of standards

• Monitoring of institutions by accrediting organizations

• Substantive change

• Due process

• Transfer of credit

• Definition of terms

• Technical and process improvements

The members of the Accreditation Committee are:

Negotiator: Elise Scanlon, Accrediting Commission of Career Schools and Colleges of Technology.

Negotiator: Steve Crow, Higher Learning Commission, North Central Association of Colleges and Schools.

Alternate: Ralph Wolff, Accrediting Commission for Senior Colleges and Universities, Western Association of Schools and Colleges.

Negotiator: Betty Horton, Association of Specialized and Professional Accreditors.

Alternate: Elaine Cuklanz, Joint Review Committee on Educational Programs in Nuclear Medicine Technology.

Negotiator: John Wiley, University of Wisconsin-Madison.

Alternate: Stephen Reno, University System of New Hampshire.

Negotiator: Geri Malandra, University of Texas System.

Alternate: Keith Boyum, California State University Office of the Chancellor.

Negotiator: Gerrit Gong, Brigham Young University.

Alternate: Don LeDuc, Thomas M. Cooley Law School.

Negotiator: Craig Swenson, Western Governors University.

Alternate: Mark L. Pelesh, Coalition for an American Competitive Workforce.

Negotiator: Tom Corts, The Alabama College System.

Alternate: Elaine Copeland, Clinton Junior College.

Negotiator: Thelma Thompson, University of Maryland Eastern Shore.

Negotiator: Paula Peinovich, Walden University.

Alternate: Ron Blumenthal, Kaplan University and Kaplan Higher Education.

Negotiator: Judith Eaton, Council on Higher Education Accreditation.

Negotiator: John Dew, American Society for Quality.

Alternate: Brent Ruben, Center for Organizational Development and Leadership, Rutgers University.

We will hold a total of three sessions, all of which will be held in the metropolitan Washington, DC area. The following is the schedule for the sessions. This schedule is subject to change.

• Session 1: February 21-23

• Session 2: March 26-28

• Session 3: April 24-26

The February 21-23 negotiating session is scheduled from 1 to 5 p.m. on February 21; 9 a.m. to 5 p.m. on February 22; and 9 a.m. to 4 p.m. on February 23. The Committee will convene at the Crystal City Marriott, 1999 Jefferson Davis Highway, Arlington, Virginia 22202.

We will post information about subsequent negotiating sessions for all four committees, including information on the meeting sites and any schedule changes, at http://www.ed.gov/policy/highered/reg/hearulemaking/2007/nr.html.

These lists of topics are tentative. Topics may be added as the process continues. A summary of the information the Department received at the hearings and in writing will be published as part of the notices of proposed rulemaking resulting from the negotiations.

In selecting individuals and organizations from the submitted nominations to represent the constituencies listed in the August 18, 2006 and December 8, 2006 Federal Register notices, the Department sought to assemble a balanced and complementary representation of the interests affected by the subject matter, consistent with section 492 of the HEA. We believe the organizations and individuals selected will bring valuable knowledge and expertise to the table, and will work as a cohesive unit to assist us in developing proposed regulations that are both reasonable and effective. Organizations and individuals that were not selected as members of the committees will be able to attend the meetings and have access to the organizations and individuals representing their constituencies. The committee meetings will be open to the public.

Please note that participation in the rulemaking process is not limited to members of the committee or those who work directly with the committee. Following the negotiated rulemaking process, the Department will publish proposed regulations in the Federal Register for public comment. The target date for publication of proposed regulations developed by these committees is June or July 2007.

Electronic Access to This Document

You may view this document in text or Adobe Portable Document Format (PDF) on the Internet at the following site: http://www.ed.gov/news/fedregister.

To use PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1098a.

Dated: January 26, 2007.
James F. Manning,
Delegated the Authority for the Assistant Secretary for Postsecondary Education.

[FR Doc. 07-413 Filed 1-26-07; 10:11 am]

BILLING CODE 4000-01-P